DEPARTMENT OF AGRICULTURE

Agricultural Marketing Service

7 CFR Part 1223

[Doc. No. AMS-SC-23-0078]

Pecan Promotion, Research, and Information Order: Referendum

AGENCY: Agricultural Marketing Service, USDA.

ACTION: Notification of referendum.

SUMMARY: Notice is hereby given of a referendum to be conducted among eligible producers and importers of pecans to determine whether they favor continuance of the Agricultural Marketing Service's (AMS) regulations regarding a national pecan research and promotion program.

DATES: This referendum will be conducted by mail and electronic ballot from May 10, 2024, through June 10, 2024. Ballots delivered to AMS via mail or electronic ballot must show proof of delivery by no later than 11:59 p.m. Eastern Time on June 10, 2024, to be counted.

ADDRESSES: Copies of the Pecan Promotion, Research, and Information Order may be obtained from: Referendum Agents, Market Development Division, Specialty Crops Program, AMS, USDA, 1400 Independence Avenue SW, Room 1406-S, Stop 0244, Washington, DC 20250-0244, Telephone: (202) 720-8085 or contact Matthew Collins at (972) 210-9109 or via Email: MatthewB.Collins@usda.gov, or Katie Cook at (202) 617-4760 or via Email: Katie.Cook@usda.gov.

FOR FURTHER INFORMATION CONTACT: Matthew Collins, Marketing Specialist, Market Development Division, SCP, AMS, USDA, 1400 Independence Avenue SW, Room 1406-S, Stop 0244, Washington, DC 20250-0244, Matthew Collins (972) 210-9109 or via Email: MatthewB.Collins@usda.gov or Katie Cook, Marketing Specialist, Market Development Division, SCP, AMS, USDA, 1400 Independence Avenue SW, Room 1406-S, Stop 0244, Washington, DC 20250-0244, Katie Cook (202) 617-4760 or via Email: Katie.Cook@usda.gov.

SUPPLEMENTARY INFORMATION: Pursuant to the Commodity Promotion, Research, and Information Act of 1996 (7 U.S.C. 7411-7425) (Act), it is hereby directed that a referendum be conducted to ascertain whether continuance of the Pecan Promotion, Research, and Information Order (Order) (7 CFR part 1223) is favored by eligible producers and importers of pecans covered under the program. The Order is authorized under the Act. The Order is administered by the American Pecan Promotion Board (Board) with oversight by the U.S. Department of Agriculture (USDA).

The representative period for establishing voter eligibility for the referendum shall be the period from October 1, 2022, through September 30, 2023. Persons who are producers or importers who have produced or imported 50,000 pounds of inshell pecans (25,000 pounds of shelled pecans) during the representative period are eligible to vote in the referendum. Persons who received an exemption from assessments pursuant to § 1223.53 for the entire representative period are ineligible to vote. AMS will provide the option for electronic balloting. The referendum will be conducted by mail and electronic ballot from May 10 through June 10, 2024. Further details will be provided in the ballot instructions.

Section 518 of the Act (7 U.S.C. 7417) authorizes required referenda. Under § 1223.71(a)(1) of the Order, the USDA must conduct a referendum not later than three years after assessments first begin. The program became effective on February 12, 2021, with the collection of assessments, as required by §§ 1223.52 and 1223.53, and compliance with reporting and recordkeeping requirements under §§ 1223.60 and 1223.61, beginning on October 1, 2021. USDA would continue the Order, if continuance is favored by a majority of producers and importers voting in the referendum, and who, during the representative time period engaged in the production or importation of pecans.

In accordance with the Paperwork Reduction Act of 1995 (44 U.S.C. chapter 35), the referendum ballot has been approved by the Office of Management and Budget (OMB) and assigned OMB No. 0581-0328. It is estimated that approximately 725 entities will be eligible to vote in the referendum. It will take an average of 15 minutes for each voter to read the voting instructions and complete the referendum ballot.

Referendum Order

Matthew Collins, Marketing Specialist; Katie Cook, Marketing Specialist; and Alexandra Caryl, Branch Chief, Market Development Division, SCP, AMS, USDA, Stop 0244, Room 1406-S, 1400 Independence Avenue SW, Washington, DC 20250-0244, are designated as the referendum agents to conduct this referendum. The referendum procedures at 7 CFR 1223.100 through 1223.107, which were issued pursuant to the Act, shall be used to conduct the referendum.

The referendum agents will mail or provide electronically the ballots to be cast in the referendum and voting instructions to all known, eligible producers and importers prior to the first day of the voting period. Any eligible producers or importers who do not receive a ballot should contact a referendum agent no later than three days before the end of the voting period. Ballots delivered via mail or electronic ballot must show proof of delivery by no later than 11:59 p.m. Eastern Time on June 10, 2024, to be counted.

List of Subjects in 7 CFR Part 1223

Administrative practice and procedure, Advertising, Consumer information, Marketing agreements, Pecan promotion, Nuts, Reporting and recordkeeping requirements.

(Authority: 7 U.S.C. 7411-7425; 7 U.S.C. 7401)

Erin Morris,
Associate Administrator, Agricultural Marketing Service.

[FR Doc. 2024-07725 Filed 4-10-24; 8:45 am]

BILLING CODE P